DEPARTMENT OF THE INTERIOR

Fish and Wildlife Service

Final Comprehensive Conservation Plan (CCP), Wilderness Stewardship Plan (WSP) and Environmental Impact Statement (EIS) for Cabeza Prieta National Wildlife Refuge (Refuge), Ajo, AZ

AGENCY: Fish and Wildlife Service, Department of the Interior.

ACTION: Notice of availability.

SUMMARY: The U.S. Fish and Wildlife Service (Service) announces that the Final CCP is available for the Cabeza Prieta National Wildlife Refuge (Refuge). This CCP is prepared pursuant to the National Wildlife Refuge System Administration Act of 1966, as amended by the National Wildlife Refuge System Improvement Act of 1997, the National Environmental Policy Act of 1969, and the Wilderness Act of 1964. The CCP describes how the Service intends to manage this Refuge over the next 15 years.

DATES: A Record of Decision may be signed no sooner than 30 days after publication of this notice (40 CFR 1506.10(b)(2)).

ADDRESSES: Copies of the CCP are available on compact disk or in hard copy, and can be obtained by writing: U.S. Fish and Wildlife Service, John Slown, Division of Planning, P.O. Box 1306, Albuquerque, New Mexico 87103.

FOR FURTHER INFORMATION CONTACT: Roger DiRosa, Refuge Manager, Cabeza Prieta National Wildlife Refuge, 1611 North Second Street, Ajo, Arizona 85321; 520-387-4993 or John Slown (See ADDRESSES), telephone: 505-248-7458; or e-mail to john_slown@fws.gov.

SUPPLEMENTARY INFORMATION: The Cabeza Prieta National Wildlife Refuge is located in Pima and Yuma Counties in southwestern Arizona. This 860,010 acre Refuge is comprised of several northwest to southeast trending mountain ranges separated by broad alluvial valleys. Located in the heart of the Sonoran Desert, the Refuge's habitats support a diversity of desert wildlife.

Cabeza Prieta National Wildlife Refuge was withdrawn from the public domain by Executive Order 8038 in 1939, and set apart “* * * for the conservation and development of natural wildlife resources, and for the protection and improvement of public grazing lands and natural forage resources * * * Provided, however, that all the forage resources in excess of that required to maintain a balanced wildlife population within this range or preserve should be available for livestock.” When the last grazing leases on the Refuge expired in 1981 the grazing purpose of the Refuge was no longer valid. The Arizona Desert Wilderness Act of 1990 designated 803,418 acres of the Refuge, or approximately 93 percent of the Refuge area, as federal wilderness.

The National Wildlife Refuge System Administration Act of 1966, as amended by the National Wildlife Refuge System Improvement Act of 1997 (16 U.S.C. 668dd-668ee et seq.), requires the Service to develop a CCP for each National Wildlife Refuge. The purpose of developing CCPs is to provide refuge managers with a 15-year strategy for achieving refuge purposes and contributing toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. These CCPs will be reviewed and updated at least every 15 years in accordance with the National Wildlife Refuge System Administration Act of 1966, as amended by the National Wildlife Refuge System Improvement Act of 1997.

The availability of Cabeza Prieta National Wildlife Refuge's Draft CCP, WSP and EIS for public review and comment was announced in the Federal Register on March 16, 2005 (70 FR 12895-12896), the comment period closed on August 15, 2005. The Draft CCP, WSP and EIS propose and evaluate five management alternatives for the Refuge. All management alternatives implement recovery actions for the Endangered Sonoran pronghorn. The alternatives differ primarily in the level of active management intervention proposed to support the desert bighorn sheep. The first alternative is “no action” or continuance of current Refuge management. Under this alternative, the Refuge would continue to offer a limited desert bighorn sheep hunt each year in cooperation with the Arizona Game and Fish Department. Refuge staff would continue to maintain and supply supplemental water to existing developed waters in desert bighorn sheep habitat. The second alternative focuses on limiting management interventions within Refuge wilderness. Under this alternative, developed wildlife waters in sheep habitat within the Refuge wilderness would not be maintained or supplied with supplemental water. The desert bighorn sheep hunt would also be discontinued. The third alternative includes limited management intervention in wilderness. Under this alternative, the Refuge would supply supplemental water to developed waters in sheep habitat within Refuge wilderness only during periods of severe drought. The desert bighorn sheep hunt would be continued, but no hunting would be allowed during years of severe drought. The fourth alternative, identified as the Service's preferred alternative, would allow continued maintenance and water supply to existing developed waters in sheep habitat within Refuge wilderness and would include projects to increase the water collection efficiency of such waters. The Refuge desert bighorn sheep hunt program would continue unchanged under this alternative. The fifth alternative would include the maximum management intervention within Refuge wilderness. Under this alternative all existing developed waters in Refuge wilderness would be maintained and supplied with water, and new developed waters would be created. The desert bighorn sheep hunt program would continue unchanged under this alternative.

Dated: August 3, 2006.
Larry G. Bell,
Acting Regional Director, U.S. Fish and Wildlife Service, Albuquerque, New Mexico.

This document was received at the Office of the Federal Register on April 18, 2007.

[FR Doc. E7-7643 Filed 4-20-07; 8:45 am]

BILLING CODE 4310-55-P